DEPARTMENT OF ENERGY

Federal Energy Regulatory Commission

[Project No. 2512-075; Project No. 14439-001]

Hawks Nest Hydro, LLC; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major Licenses.

b. Project Nos.: 2512-075 and 14439-001.

c. Date filed: December 29, 2015.

d. Applicant: Hawks Nest Hydro, LLC (Hawks Nest Hydro).

e. Name of Project: Hawks Nest and Glen Ferris Hydroelectric Projects.

f. Location: The existing Hawks Nest and Glen Ferris projects are located on the New and Kanawha rivers, respectively. Both projects are located in Fayette County, West Virginia. The projects do not occupy any federal lands.

g. Filed Pursuant to: Federal Power Act 16 U.S.C. 791(a)-825(r).

h. Applicant Contact: Steven Murphy, Manager, Licensing, Brookfield Renewable Energy Group, 33 West 1st Street South, Fulton, New York 13069; Telephone (315) 598-6130.

i. FERC Contact: Monir Chowdhury, (202) 502-6736, or monir.chowdhury@ferc.gov.

j. Deadline for filing motions to intervene and protests, comments, recommendations, preliminary terms and conditions, and preliminary prescriptions: 60 days from the issuance date of this notice; reply comments are due 105 days from the issuance date of this notice.

The Commission strongly encourages electronic filing. Please file motions to intervene, protests, comments, recommendations, preliminary terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include the applicable project name(s) and docket number(s) (e.g., Hawks Nest P-2512-075).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The existing project works consist of the following:

The existing Hawks Nest Hydroelectric Project consists of: (1) A 948-foot-long concrete-gravity dam with a crest elevation of 795.0 feet National Geodetic Vertical Datum of 1929 (NGVD29); (2) 14 ogee-type spillway bays extending almost the entire length of the dam, each with a 25-foot-high by 50-foot-wide Stoney-type steel lift gate and separated by a 9-foot-wide concrete pier; (3) a 243-acre reservoir with a gross storage capacity of 7,323 acre-feet at a normal pool elevation of 819.9 feet NGVD29; (4) an intake structure located at the right shoreline (looking downstream) of the reservoir just upstream of the dam and consisting of a 110-foot-wide by 50-foot-high trashrack structure and a Stoney-type 42-foot-high by 50-foot-wide bulkhead intake gate that sits back approximately 50 feet from the opening where the trashrack is located; (5) a 16,240-foot-long tunnel that runs along the right side of the river to convey water from the intake to the powerhouse downstream on the New River; (6) a 600-foot-long by 170-foot-wide surge basin located at a point on the tunnel approximately 60 percent of the distance from the intake to the powerhouse; (7) a 116-foot-diameter and 56-foot-high differential surge tank located at the downstream end of the tunnel and before the powerhouse; (8) a 210-foot-long by 74.5-foot-wide powerhouse containing four turbine-generator units, each with a rated capacity of approximately 25.5 megawatts (MW); (9) two parallel approximately 5.5-mile-long, 69-kilovolt (kV) transmission lines; and (10) appurtenant facilities. Hawks Nest Hydro operates the project in a run-of-river mode.

The existing license for the Hawks Nest Hydroelectric Project requires that the project release a continuous minimum flow of 100 cubic feet per second into the bypassed reach between the dam and the powerhouse (Article 402). Hawks Nest Hydro proposes to continue run-of-river operation and increase the existing minimum flow for the bypassed reach. The project generates an annual average of 544,253 megawatt-hours.

The existing Glen Ferris Hydroelectric Project consists of: (1) A low concrete dam with a maximum height of 12 feet above the river bed and a crest elevation of 651.0 feet NGVD29, consisting of (from left to right—looking downstream) (i) a 590-foot-long spillway section that generally curves upstream; (ii) a 128-foot-long five-bay stoplog sluice; (iii) a 2,132-foot-long right spillway that runs diagonally in a downstream direction; (iv) a trash sluice section; (v) a 54-foot-long by 38-foot-wide east powerhouse with a 62-foot-wide intake structure; and (vi) a 64.5-foot-long by 63-foot-wide west powerhouse with an 82.3-foot-wide intake structure, with both powerhouses integral to the dam; (2) a 190-acre reservoir with a gross storage capacity of approximately 1,500 acre-feet at the dam crest elevation of 651.0 feet NGVD29; (3) two turbine-generator units in the east powerhouse, each with a rated capacity of approximately 1.9 MW; (4) six turbine-generator units in the west powerhouse, each with a rated capacity of approximately 0.4 MW; (5) a 4-mile-long, 13.8-kV transmission line; and (6) appurtenant facilities.

The Glen Ferris Hydroelectric Project is currently operated in a run-of-river mode with no usable storage capacity. Hawks Nest Hydro proposes to continue run-of-river operation. The project generates an annual average of 41,482 megawatt-hours.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST,” “MOTION TO INTERVENE,” “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application will be processed according to the following revised Hydro Licensing Schedule. Revisions to the schedule may be made as appropriate.

Milestone | Target date
Filing of recommendations, preliminary terms and conditions, and preliminary fishway prescriptions | June 2016.
Commission Issues Draft EA | December 2016.
Comments on Draft EA | January 2017.
Modified Terms and Conditions | March 2017.
Commission Issues Final EA | June 2017.

p. Final amendments to the application must be filed with the Commission no later than 30 days from the issuance date of this notice.

q. A license applicant must file no later than 60 days following the date of issuance of the notice of acceptance and ready for environmental analysis provided for in 5.22: (1) A copy of the water quality certification; (2) a copy of the request for certification, including proof of the date on which the certifying agency received the request; or (3) evidence of waiver of water quality certification.

Dated: April 6, 2016.
Kimberly D. Bose,
Secretary.

[FR Doc. 2016-08858 Filed 4-15-16; 8:45 am]

BILLING CODE 6717-01-P